DEPARTMENT OF AGRICULTURE

Office of the Secretary

7 CFR Part 2

Revision of Delegations of Authority

AGENCY: Office of the Secretary, USDA.

ACTION: Final rule.

SUMMARY: This document amends the delegation of authority from the Secretary of Agriculture to the Director of the Office of Communications to serve as the central information authority for emergency public information activities. The Secretary further delegates to the Director of the Office of Communications the authority to serve as the central authority for the Department and agency strategic communications plans.

DATES: This rule is effective October 27, 2011.

FOR FURTHER INFORMATION CONTACT: Ronald N. DeMunbrun, Office of Communications Budget Officer, (202) 400-0827, ron.demunbrun@oc.usda.gov.

SUPPLEMENTARY INFORMATION: Effective June 6, 2010, the Secretary of Agriculture (Secretary) implemented within USDA a reorganization of the Office of Communications (OC), led by the Director of OC. This rulemaking amends USDA's delegations of authority at 7 CFR 2.36 principally to reflect this reorganization. Under the reorganized structure, the Director of OC assumes responsibility for USDA's strategic communications planning process. The Director of OC provides Departmental executive leadership in developing and implementing USDA's communications strategies for the Secretary and the agencies, including oversight of creative elements, production, and communications products.

This rule also amends the delegations of authority at 7 CFR 2.36 to reflect that the Director of OC is delegated authority, when required under the National Incident Management System (NIMS), to establish and administer a Joint Information Center (JIC) to provide a structure for developing and delivering incident-related coordinated messages.

This rule relates to internal agency management. Therefore, pursuant to 5 U.S.C. 553(a)(2), notice of proposed rulemaking and opportunity for comment are not required, and this rule may be made effective less than 30 days after publication in the Federal Register. Further, because this rule relates to internal agency management, it is exempt from the provisions of Executive Order 12866. Finally, this action is not a rule as defined by the Regulatory Flexibility Act, 5 U.S.C. 601 et seq, and is, therefore, exempt from the provisions of the Act. Accordingly, as authorized by 5 U.S.C. 808, this rule may be made effective upon publication. This rule contains no information collection or recordkeeping requirements under the Paperwork Reduction Act of 1995 (44 U.S.C. 3501 et seq).

List of Subjects in 7 CFR Part 2

Authority Delegations (Government agencies).

Accordingly, Subtitle A of Title 7 of the Code of Federal Regulations is amended as set forth below:

PART 2—DELEGATIONS OF AUTHORITY BY THE SECRETARY OF AGRICULTURE AND GENERAL OFFICERS OF THE DEPARTMENT

1. The authority citation for part 2 continues to read as follows:

Authority: 7 U.S.C. 6912(a): 5 U.S.C. 301; Reorganization Plan No. 2 of 1953, 3 CFR 1949-1953 Comp., p. 1024.

Subpart D—Delegations of Authority to Other General Officers and Agency Heads

2. Amend § 2.36 as follows:

a. Revise paragraph (a)(2)(iv); and

b. Add new paragraphs (a)(2)(xii) and (a)(2)(xiii), to read as follows:

§ 2.36 Director, Office of Communications.

(a) * * *

(2) * * *

(iv) Serve as the central public information authority in the USDA, with authority to determine policy for all USDA and Agency communication activities, as well as emergency public information and messaging communication activities, in order to provide leadership and centralized operational direction for all USDA public information activities and ensure all materials shall effectively support USDA policies and programs, including the defense program.

* * * * *

(xii) Serve as the central authority to determine policy, plans, procedures, and standards for the Department and agency strategic communications plans; request, receive, review, and approve agency communications plans; and provide centralized communication strategies for the Secretary and agencies, including the creativity, production, and oversight of communication products.

(xiii) When required, support and coordinate staffing of a JIC as identified in the NIMS, and if required, establish and administer a JIC to provide a structure for developing and delivering incident-related coordinated messages.

* * * * *

Signed in Washington, DC, this day: October 21, 2011.
Thomas J. Vilsack,
Secretary of Agriculture.

[FR Doc. 2011-27760 Filed 10-26-11; 8:45 am]

BILLING CODE 3411-N8-P